DEPARTMENT OF ENERGY

Federal Energy Regulatory Commission

[Project No. 2814-025]

Great Falls Hydroelectric Company, City of Paterson, New Jersey; Notice of Scoping Meetings and Environmental Site Review and Soliciting Scoping Comments

Take notice that the following hydroelectric application has been filed with the Commission and is available for public inspection.

a. Type of Application: New Major License.

b. Project No.: 2814-025.

c. Date Filed: February 28, 2019.

d. Applicants: Great Falls Hydroelectric Company and the City of Paterson, New Jersey, as co-licensees.

e. Name of Project: Great Falls Hydroelectric Project.

f. Location: On the Passaic River, near the City of Paterson, Passaic County, New Jersey. The project does not occupy federal land.

g. Filed Pursuant to: Federal Power Act 16 U.S.C. 791 (a)-825 (r).

h. Applicant Contact: Mr. Robert Gates, Senior Vice President of Operations, Eagle Creek Renewable Energy, 65 Madison Avenue, Suite 500, Morristown, NJ 07960; (973) 998-8400; email—bob.gates@eaglecreekre.com and/or Ben-David Seligman, 2nd Assistant Corp. Counsel, City of Paterson, 155 Market Street, Paterson, NJ; (973) 321-1366; email—bseligman@patersonnj.gov.

i. FERC Contact: Christopher Millard at (202) 502-8256; or email at christopher.millard@ferc.gov.

j. Deadline for filing scoping comments: November 23, 2019.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2814-025.

k. This application is not ready for environmental analysis at this time.

l. The existing project works consist of: (1) The Society for the Establishment of Useful Manufactures dam, an overflow granite stone gravity structure about 315 feet long, with a maximum height of 15 feet and having a crest elevation of 114.6 feet mean sea level (msl); (2) a reservoir with a surface area of 202 acres and a storage capacity of 1,415 acre-feet at elevation 114.6 feet msl; (3) a forebay inlet structure; (4) a headgate control structure containing three trashracks and three steel gates; (5) three penstocks, each 8.5 feet in diameter and approximately 55 feet long; (6) a powerhouse containing three turbine-generator units with a total rated capacity of 10.95 megawatts; (7) a 37-foot-long, 4.16-kilovolt (kV) underground transmission line connecting the powerhouse to a 4.16/26.4-kV step-up transformer which in turn is connected to a 26.4-kV transmission grid via an approximately 30-foot-long, 26.4-kV underground transmission line; (8) and appurtenant facilities.

The Great Falls Project is operated in a run-of-river mode. For the period 2010 through 2018, the average annual generation at the Great Falls Project was 17,484 megawatt-hours.

m. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process

The Commission intends to prepare an environmental assessment (EA) on the projects in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Public Scoping Meeting

Date: Wednesday, October 23, 2019.

Time: 7:00 p.m. (EDT).

Place: Rogers Meeting Center, Second Floor.

Address: 32 Spruce Street, Paterson, New Jersey.

Agency Scoping Meeting

Date: Thursday, October 24, 2019.

Time: 2:00 p.m. (EDT).

Place: Rogers Meeting Center, Second Floor.

Address: 32 Spruce Street, Paterson, New Jersey.

Copies of the Scoping Document (SD1) outlining the subject areas to be addressed in the EA were distributed to the parties on the Commission's mailing list. Copies of the SD1 will be available at the scoping meeting or may be viewed on the web at http://www.ferc.gov using the “eLibrary” link (see item m above).

Environmental Site Review

The applicants and FERC staff will conduct a project Environmental Site Review beginning at 9:00 a.m. on October 24, 2019. All interested individuals, organizations, and agencies are invited to attend. All participants should meet at the Great Falls Project facility, located at 72 McBride Avenue, Paterson, New Jersey. All participants are responsible for their own transportation to the site and during the site visit. Anyone with questions about the Environmental Site Review should contact Mr. Matt Nini, Relicensing Project Manager for Eagle Creek, at 973-998-8171 or matthew.nini@eaglecreekre.com.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the projects. Individuals, organizations, and agencies with environmental expertise and concerns are encouraged to attend the meeting and to assist the staff in defining and clarifying the issues to be addressed in the EA.

Dated: September 23, 2019.
Kimberly D. Bose,
Secretary.

[FR Doc. 2019-21676 Filed 10-3-19; 8:45 am]

BILLING CODE 6717-01-P